DEPARTMENT OF HOMELAND SECURITY

Federal Emergency Management Agency

44 CFR Part 64

[Docket No. FEMA-7782]

List of Communities Eligible for the Sale of Flood Insurance

AGENCY: Federal Emergency Management Agency (FEMA), Emergency Preparedness and Response Directorate, Department of Homeland Security.

ACTION: Final rule.

SUMMARY: This rule identifies communities that are participating and suspended from the National Flood Insurance Program (NFIP). These communities have applied to the program and have agreed to enact certain floodplain management measures. The communities' participation in the program authorizes the sale of flood insurance to owners of properties located in the communities listed below.

EFFECTIVE DATES: The effective date for each community is listed in the fourth column of the following tables.

ADDRESSES: Flood insurance policies for properties located in the eligible communities listed below can be obtained from any licensed property insurance agent or broker serving the eligible community or from the NFIP by calling 1-800-638-6620.

FOR FURTHER INFORMATION CONTACT: Michael M. Grimm, Mitigation Division, 500 C Street SW., Room 412, Washington, DC 20472, (202) 646-2878.

SUPPLEMENTARY INFORMATION: The NFIP enables property owners to purchase flood insurance that is generally not otherwise available. In return, communities agree to adopt and administer local floodplain management measures aimed at protecting lives and new construction from future flooding. Because the communities on the attached list have recently entered the NFIP, subsidized flood insurance is now available for properties in these communities.

In addition, FEMA has identified the Special Flood Hazard Areas (SFHAs) in some of these communities by publishing a Flood Hazard Boundary Map (FHBM) or Flood Insurance Rate Map (FIRM). The date of the flood map, if one has been published, is indicated in the fourth column of the table. In the communities listed where a flood map has been published, Section 202 of the Flood Disaster Protection Act of 1973, as amended, 42 U.S.C. 4016(a), requires the purchase of flood insurance as a condition of Federal or Federally-related financial assistance for acquisition or construction of buildings in the SFHAs shown on the map.

The Administrator finds that delayed effective dates would be contrary to the public interest and that notice and public procedure under 5 U.S.C. 553(b) are impracticable and unnecessary.

National Environmental Policy Act

This rule is categorically excluded from the requirements of 44 CFR Part 10, Environmental Considerations. No environmental impact assessment has been prepared.

Regulatory Flexibility Act

The Administrator certifies that this rule will not have a significant economic impact on a substantial number of small entities in accordance with the Regulatory Flexibility Act, 5 U.S.C. 601 et seq., because the rule creates no additional burden, but lists those communities eligible for the sale of flood insurance.

Regulatory Classification

This final rule is not a significant regulatory action under the criteria of section 3(f) of Executive Order 12866 of September 30, 1993, Regulatory Planning and Review, 58 FR 51735.

Paperwork Reduction Act

This rule does not involve any collection of information for purposes of the Paperwork Reduction Act, 44 U.S.C. 3501 et seq.

List of Subjects in 44 CFR Part 64.

Flood insurance, Floodplains.

Accordingly, 44 CFR Part 64 is amended as follows:

PART 64—[AMENDED]

1.The authority citation for Part 64 continues to read as follows:

Authority: 42 U.S.C. 4001 et seq., Reorganization Plan No. 3 of 1978, 3 CFR, 1978 Comp., p. 329; E.O. 12127, 44 FR 19367, 3 CFR, 1979 Comp., p. 376.

§ 64.6 [Amended]

The tables published under the authority of § 64.6 are amended as follows:

State | Location | Community No. | Effective date of eligibility | Current effective map date
New Eligibles: Emergency Program
Region IV
Alabama | Brantley, Town of, Crenshaw County | 010055 | July 5, 2005 | FHBM dated June 4, 1976.
Region VI
Arkansas | Knoxville, Town of, Johnson County | 050260 | July 8, 2005 | FHBM dated February 21, 1975.
Region IV
Tennessee | Van Buren County, Unincorporated Areas | 470342 | July 14, 2005 | FHBM dated December 1, 1978.
Region I
Maine | Vassalboro, Town of, Kennebec County | 230248 | July 26, 2005 | FHBM dated February 7, 1975.
Region VII
Iowa | Beaman, City of, Grundy County | 190400 | July 27, 2005 | Never Mapped.
Kansas | Cloud County, Unincorporated Areas | 200058 | ......do* | FHBM dated August 23, 1977.
Region VI
Texas | Round Top, Town of, Fayette County | 480816 | August 12, 2005 | FHBM dated October 29, 1976.
Region X
Washington | Republic, Town of, Ferry County | 530042 | ......do | Never Mapped.
Region VI
New Mexico | Lincoln County, Unincorporated Areas | 350122 | August 15, 2005 | FHBM dated March 28, 1978.
Texas | Leonard, City of, Fannin County | 480812 | ......do | Never Mapped. Includes annexed area of Fannin County (CID 480807) FIRM panel 0010B, dated December 1, 2004.
Region VII
Iowa | Cromwell, City of, Union County | 190519 | ......do | FHBM dated June 25, 1976.
Do | Grundy Center, City of, Grundy County | 190403 | ......do | FHBM dated July 2, 1976.
Do | Shannon City, City of, Union County | 190521 | ......do | FHBM dated August 13, 1976.
Region VII
Kansas | Goessel, City of, Marion County | 200206 | August 24, 2005 | FHBM dated November 22, 1974.
Region VIII
North Dakota | La Moure County, Unincorporated Areas | 380086 | August 29, 2005 | Never Mapped.
Region IV
Alabama | Sylvania, Town of, DeKalb County | 010364 | September 4, 2005 | FHBM dated October 29, 1976.
Region IV
Georgia | Franklin County, Unincorporated Areas | 130659 | September 19, 2005 | Never Mapped.
New Eligibles: Regular Program
Region VII
Missouri | **Caldwell County, Unincorporated Areas | 290788 | July 5, 2005 | July 5, 2005.
Region IV
Florida | Alford, Town of, Jackson County | 120580 | July 14, 2005 | Use Jackson County (CID 120125) FIRM panel 0225C, dated December 15, 1990.
Region I
New Hampshire | **Madison, Town of, Carroll County | 330220 | August 1, 2005 | FHBM dated January 17, 1975, converted to FIRM by letter August 1, 2005.
Region IV
Kentucky | **Letcher County, Unincorporated Areas | 210289 | ......do | FHBM dated September 2, 1977, converted to FIRM by letter August 1, 2005.
Region VII
Missouri | **Lake Ozark, City of, Camden County | 290698 | ......do | FHBM dated July 26, 1977, converted to FIRM by letter August 1, 2005.
Region VI
Texas | Sansom Park, City of, Tarrant County | 480611 | August 12, 2005 | Use Tarrant County (CID 480582) FIRM panel 0270J, dated August 23, 2000.
Oklahoma | Arcadia, Town of, Oklahoma County | 400551 | August 15, 2005 | Use Oklahoma County (CID 400466) FIRM panel 0115G, dated July 2, 2002.
Do | Hennessey, Town of, Kingfisher County | 400389 | August 26, 2005 | Use Kingfisher County (CID 400471) FIRM panel 0185C, dated May 5, 2003.
Region VII
Nebraska | Boyd County, Unincorporated Areas | 310417 | August 18, 2005 | August 18, 2005.
Region IV
Florida | **Otter Creek, City of, Levy County | 120592 | September 1, 2005 | FHBM dated August 17, 1979, converted to FIRM by letter September 1, 2005.
Georgia | **Coolidge, City of, Thomas County | 130169 | ......do | FHBM dated April 2, 1976, converted to FIRM by letter September 1, 2005.
Region VII
Nebraska | **Burt County, Unincorporated Areas | 310420 | ......do | FHBM dated November 22, 1977, converted to FIRM by letter September 1, 2005.
Region IV
Alabama | South Vinemont, Town of, Cullman County | 010365 | September 4, 2005 | December 2, 2004.
Do | Tallapoosa County, Unincorporated Areas | 010326 | September 15, 2005 | June 17, 1991.
North Carolina | Montreat, Town of, Buncombe County | 370476 | September 19, 2005 | NSFHA.
Reinstatements
Region V
Ohio | Harbor View, Village of, Lucas County | 390702 | July 5, 2005 | Use Lucas County (CID 390359) FIRM panel 0105D, dated October 6, 2000.
Region VII
Nebraska | Pawnee City, City of, Pawnee County | 310170 | July 12, 2005 | July 5, 2005.
Region V
Minnesota | Minnetonka Beach, City of, Hennepin County | 270174 | July 29, 2005 | September 2, 2004.
Region IV
Alabama | Pennington, Town of, Choctaw County | 010035 | September 4, 2005 | September 18, 1985. Includes annexed area of Choctaw County (CID 010310) FIRM Panel 0175C, dated September 30, 1988.
Region I
New Hampshire | Middleton, Town of, Strafford County | 330222 | September 30, 2005 | May 17, 2005.
Withdrawals
Suspensions
Region VII
Nebraska | Pawnee City, City of, Pawnee County | 310170 | June 4, 1975, Emerg; August 1, 1986, Reg; July 6, 2005, Susp | July 5, 2005.
Region VI
Oklahoma | Grady County, Unincorporated areas | 400483 | September 17, 1985, Emerg; September 1, 1987, Reg; July 20, 2005, Susp | July 19, 2005.
Region VII
Nebraska | Crofton, City of, Knox County | 310361 | July 9, 1976, Emerg; September 1, 1986, Reg; August 19, 2005, Susp | August 19, 2005.
Missouri | Argyle, Village of, Osage County | 290491 | May 13, 1974, Emerg; August 1, 1986, Reg; September 3, 2005, Susp | September 2, 2005.
Do | Westphalia, City of, Osage County | 290272 | March 16, 1976, Emerg; September 10, 1984, Reg; September 3, 2005, Susp | Do.
Nebraska | Perkins County, Incorporated Areas | 310464 | June 15, 2001, Emerg; June 15, 2001, Reg; September 3, 2005, Susp | Do.
Region II
New Jersey | East Rutherford, Borough of, Bergen County | 340028 | June 24, 1975, Emerg; December 16, 1980, Reg; October 3, 2005, Susp | September 30, 2005.
Probation
Region V
Illinois | Jersey County, Unincorporated Areas | 170312 | July 15, 2005, Probation Lifted | February 1, 1984.
Suspension Rescissions
Indiana | Beech Grove, City of, Marion County | 180158 | July 5, 2005, Suspension Notice Rescinded | July 5, 2005.
Do | Southport, City of, Marion County | 180161 | ......do | Do.
Region VII
Missouri | Caldwell County, Unincorporated Areas | 290788 | ......do | Do.
Nebraska | Table Rock, Village of, Pawnee County | 310172 | ......do | Do.
Region VI
Oklahoma | McClain County, Unincorporated Areas | 400538 | July 19, 2005, Suspension Notice Rescinded | July 19, 2005.
Region VIII
North Dakota | Bismarck, City of, Burleigh County | 380149 | ......do | Do.
Region VII
Nebraska | Bristow, Village of, Boyd County | 310012 | August 18, 2005, Suspension Notice Rescinded | August 18, 2005.
Do | Creighton, City of, Knox County | 310360 | ......do | Do.
Do | Lynch, Village of, Boyd County | 310013 | ......do | Do.
Do | Niobrara, Village of, Knox County | 310132 | ......do | Do.
Do | Spencer, Village of, Boyd County | 310399 | ......do | Do.
Do | Verdigre, Village of, Knox County | 310133 | ......do | Do.
Region VI
Texas | Midland, City of, Midland County | 480477 | September 16, 2005, Suspension Notice Rescinded | September 16, 2005.
Do | Midland County, Unincorporated Areas | 481239 | ......do | Do.
Do | Odessa, City of, Midland County | 480206 | ......do | Do.
Region IX
Hawaii | Kauai County, All Jurisdictions | 150002 | ......do | Do.
* do = Ditto.
** Designates communities converted from Emergency Phase of participation to the Regular Phase of participation.
Code for reading fourth and fifth columns: Emerg.-Emergency; Reg.-Regular; Rein.-Reinstatement; Susp.-Suspension; With.-Withdrawn; NSFHA.-Non Special Flood Hazard Area.

(Catalog of Federal Domestic Assistance No. 83.100, “Flood Insurance.”)
Dated: October 12, 2005.
David I. Maurstad,
Acting Mitigation Division Director, Emergency Preparedness and Response Directorate.

[FR Doc. 05-21139 Filed 10-21-05; 8:45 am]

BILLING CODE 9110-12-P